TENNESSEE VALLEY AUTHORITY

Sunshine Act

Agency Holding the Meeting: Tennessee Valley Authority (Meeting No. 09-02).

Time and Date: 10 a.m. (EDT), April 2, 2009, The Millennium Center, Appalachian Ballroom A, 2001 Millennium Place, Johnson City, Tennessee.

Status: Open.

Agenda

Old Business

Approval of minutes of February 12, 2009, Board Meeting.

New Business

1. Chairman's Report.

2. President's Report.

3. Report of the Finance, Strategy, Rates, and Administration Committee.

A. Annual price quote for directly served customer.

B. Seasonal Time-Of-Use and Seasonal Market Days pilot pricing for summer season.

4. Report of the Operations, Environment, and Safety Committee.

A. Contract with Siemens Energy, Inc., for parts and services for nuclear and fossil plants.

B. Contracts with AREVA NC, Inc., and Urenco Enrichment Company for uranium (nuclear fuels).

C. Contract extension with United States Enrichment Corporation for uranium hexafluoride and enrichment.

D. Contract with G-UB-MK for maintenance and modification work for fossil and hydro plants.

E. Contract with GE for combustion turbines alliance.

F. Renewables and clean energy purchases.

5. Report of the Community Relations and Energy Efficiency Committee.

A. Beech River Watershed Development Agency land sale.

For more information: Please call TVA Media Relations at (865) 632-6000, Knoxville, Tennessee. People who plan to attend the meeting and have special needs should call (865) 632-6000. Anyone who wishes to comment on any of the agenda in writing may send their comments to: TVA Board of Directors, Board Agenda Comments, 400 West Summit Hill Drive, Knoxville, Tennessee 37902.

Dated: March 26, 2009.
Maureen H. Dunn,
General Counsel and Secretary.

[FR Doc. E9-7266 Filed 3-27-09; 11:15 am]

BILLING CODE 8120-08-P